DEPARTMENT OF HOUSING AND URBAN DEVELOPMENT

[Docket No. FR-5041-N-15]

Notice of Proposed Information Collection: Comment Request; Multifamily Housing Mortgage and Housing Assistance Restructuring Program (Mark-to-Market) Final Regulations

AGENCY: Office of Affordable Housing Preservation, HUD.

ACTION: Notice.

SUMMARY: The proposed information collection requirement described below will be submitted to the Office of Management and Budget (OMB) for review, as required by the Paperwork Reduction Act. The Department is soliciting public comments on the subject proposal.

DATES: Comments Due Date: June 27, 2006.

ADDRESSES: Interested persons are invited to submit comments regarding this proposal. Comments should refer to the proposal by name and/or OMB Control Number and should be sent to: Lillian Deitzer, Reports Management Officer, Department or Housing and Urban Development, 451 7th Street, SW., L'Enfant Plaza Building, Room 800a, Washington, DC 20410 or Lillian_L._Deitzer@hud.gov.

FOR FURTHER INFORMATION CONTACT: Theodore Toon, Acting Deputy Assistant Secretary, Office of Affordable Housing Preservation, 451 7th Street, Southwest, Suite 6230, Washington, DC 20410; e-mail Theodore_K._Toon@HUD.gov; telephone (202) 708-0001 (this is not a toll-free number) for copies of the proposed forms and other available information.

SUPPLEMENTARY INFORMATION: The Department will submit the proposed information collection to OMB for review, as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Multifamily Housing Mortgage and Housing Assistance Restructuring Program (Mark to Market).

OMB Control Number, if applicable: 2502-0533.

Description of the need for the information and proposed use: The Mark to Market Program is authorized under the Multifamily Assisted Housing Reform and Affordability Act of 1997 as extended by The Mark to Market Extension Act of 2001. The information collection is required and will be used to determine the eligibility of FHA-insured multifamily properties for participation in the Mark to Market program and the terms on which such participation should occur as well as to process eligible properties from acceptance into the program through closing of the mortgage restructure in accordance with program guidelines.

Agency form numbers, if applicable: HUD-9624, HUD-9625, OPG 3.7, OPG 4.1, OPG 4.2, OPG 4.3, OPG 4.7, OPG 4.10, OPG 6.5, OPG 7.6, OPG 7.9, OPG 7.16, OPG 9.10, OPG 9.11, OPG 9.12.

Estimation of the total number of hours needed to prepare the information collection including number of respondents, frequency of response, and hours of response: An estimation of the total annual numbers of hours needed to prepare the information collection is 1,465, number of respondents is 1,370, frequency of response is, 1, except for on-line Resource Desk reporting of rehabilitation escrow status when the frequency of response is 12 and the hours per response on average is 1.

Status of the proposed information collection: This is an extension of a currently approved collection.

Authority: The Paperwork Reduction Act of 1995, 44 U.S.C., Chapter 35, as amended.

Dated: April 21, 2006.
Frank L. Davis,
General Deputy Assistant Secretary for Housing—Deputy Federal Housing Commissioner.

[FR Doc. E6-6455 Filed 4-27-06; 8:45 am]

BILLING CODE 4210-67-P